DEPARTMENT OF JUSTICE

Notice Relating to Public Comment Period on Environmental Settlement in In Re Fruit of the Loom, Inc.

Notice is hereby given of an extension of the period for public comment with respect to the St. Louis Facility, Breckenridge Facility, and Hollywood Dump Facility under the proposed settlement entered into by the United States on behalf of U.S. EPA, Department of Interior, National Oceanic and Atmospheric Administration of the Department of Commerce, and the Nuclear Regulatory Commission, the States of Illinois, Michigan, New Jersey, and Tennessee, Debtors Fruit of the Loom, Inc. and NWI Land Management Corp., and Velsicol Chemical Corporation and True Specialty Corporation, which was filed on April 17, 2002 in In re Fruit of the loom, Inc., No. 99-4497 (PJW) with the United States Bankruptcy Court for the District of Delaware. The public comment period has been extended until July 9, 2002 but only with respect to comments relating to the St. Louis Facility in St. Louis, Michigan; the Breckenridge Facility in St. Louis/Breckenridge, Michigan; and the Hollywood Dump Facility in Memphis, Tennessee. The proposed settlement would, inter alia, resolve certain claims of the Governmental Parties against the settling parties under the Comprehensive Environmental Response Compensation and Liability Act, 42 U.S.C. 9601 et seq., Section 7003 of the Resource Conservation and Recovery Act (“RCRA”), 42 U.S.C. 6973, and the Atomic Energy Act, 42 U.S.C. §§ 2011 et seq., relating to those Facilities. Under the settlement, inter alia, the following will be dedicated to fund response action or costs and natural resource damage assessment or restoration at certain Facilities: (1) $4,292,808 to be paid in full as an Allowed Administrative Expense; (2) certain proceeds from general liability insurance claims; (3) certain future recoveries from preferred shares of stock in True Specialty Corporation; and (4) certain proceeds from Fruit of the Loom's and Velsicol's “cost cap” and pollution legal liability insurance policies.

The United States published notice of the lodging of the Settlement Agreement in the Federal Register on May 2, 2002. 67 Fed. Reg. 22108 (2002). In response to requests for an extension of the public comment period, the United States has elected to extend the comment period with respect to these three Facilities and to accept public comments received no later than July 9, 2002. Comments should be addressed to the Assistant Attorney General of the Environment and Natural Resources Division, Department of Justice, P.O. Box 7611, Ben Franklin Station, Washington, DC 20044, and should refer to In re Fruit of the Loom, Inc., D.J. Ref. No. 90-11-2-07096. Copies of the proposed settlements may be examined at the Office of the United States Attorney for the District of Delaware, 1201 Market Street, Suite 1100, Wilmington, DE, the United States Environmental Protection Agency, Region 2, 290 Broadway, 17th Floor, New York, New York, the United States Environmental Protection Agency, Region 4, 61 Forsyth Street, SW., Atlanta, Georgia, and the United States Environmental Protection Agency, Region 5, 77 West Jackson Blvd., 14th Floor, Chicago, Illinois. Copies of the proposed settlements may also be obtained by request addressed to the Department of Justice Consent Decree Library, P.O. Box 7611, Ben Franklin Station, Washington, DC 20044. In requesting a copy of the proposed settlements, please enclose a check in the amount of $24.75 for (25 cents per page for reproduction costs), payable to the United States Treasurer.

Bruce S. Gelber,
Section Chief, Environmental Enforcement Section, Environment and Natural Resources Division.

[FR Doc. 02-16214 Filed 6-26-02; 8:45 am]

BILLING CODE 4410-15-M